DEPARTMENT OF THE INTERIOR

National Park Service

National Wild and Scenic River System: Ohio; Big and Little Darby Creeks

AGENCY: National Park Service, Interior.

ACTION: Notice of correction.

SUMMARY: The Federal Register notice dated Tuesday, November 21, 2000, page 69959, was submitted prematurely. This notice is hereby cancelled.

FOR FURTHER INFORMATION CONTACT: Angie Tornes, Rivers, Trails and Conservation Assistance Program, National Park Service, Midwest Field Office, 310 West Wisconsin Street, Suite 100E, Milwaukee, Wisconsin 53202; or telephone 414-297-3605.

Dated: December 19, 2000.
David N. Given,
Deputy Director, Midwest Region.

[FR Doc. 01-50 Filed 1-2-01; 8:45 am]

BILLING CODE 4310-70-P